DEPARTMENT OF AGRICULTURE

Forest Service

RIN 0596-AB67

Forest Transportation System

AGENCY: Forest Service, USDA.

ACTION: Notice of proposed administrative policy; request for comment.

SUMMARY: In conjunction with a proposed rule published elsewhere in this part of today's Federal Register, the Forest Service proposes to revise its administrative direction governing forest transportation planning and management. This action is necessary to ensure that the forest transportation system meets current and future land and resource management objectives and provides for attendant public uses of National Forest System lands; provides for safe public access and travel; allows for economical and efficient management; and, to the extent practicable, minimizes and begins to reverse adverse ecological impacts. The intended effects of this action are to ensure that decisions to construct new roads will be made only upon completion of a science-based road analysis; that emphasis will be given to decommissioning unnecessary classified and unclassified roads and to reconstructing and maintaining classified roads rather than constructing new roads, where supported by analyses; and that the availability of road maintenance funding will be considered when assessing new road construction. Public comment is invited and will be considered in adoption and issuance of the final directives.

DATES: Comments must be received in writing by May 2, 2000.

ADDRESSES: Send written comments to USFS CAET, Attention: Roads, P.O. Box 221090, Salt Lake City, UT 84122. Send comments electronically to roads/wo_caet-slc@fs.fed.us. All comments received, including names and addresses when provided, are placed in the record and are available for public inspection and copying at Forest Service headquarters, 201 14th Street SW, Washington, DC 20250. Persons wishing to inspect the comments are encouraged to call 202-205-1400 to facilitate building entrance.

FOR FURTHER INFORMATION CONTACT: Heidi Valetkevitch, Office of Communication, 202-205-0914.

SUPPLEMENTARY INFORMATION:

Background

Forest Service roads are constructed and maintained to provide public and administrative access and to allow for delivery of goods and services. However, few land impacts are more lasting than those associated with road construction. Forest Service land managers face complex transportation-related issues including funding limitations, environmental and social impacts, substandard roads, and maintaining unroaded area values.

In the past, Forest Service transportation policy focused on development of roads into and across National Forest System lands. Over the years, this emphasis on road development has led to heightened concern about water quality, recreation opportunities, and restoration and maintenance of sustainable ecosystems. Today, the Forest Service considers the National Forest road system, at approximately 380,000 miles of road, to be largely complete. As a result, the previous emphasis on road development has evolved into the present focus on managing access within the capability of the land.

Administrative direction to guide forest officers in planning and managing the transportation system is issued in Forest Service Manual (FSM) Title 7700—National Forest Transportation System, FSM Chapter 1920—Land and Resource Management Planning, and in associated handbooks. Numerous changes in these directives are necessary to address the new emphasis on sustaining access within the capability of the land.

One of the significant changes is the direction to utilize a science-based road analysis, at appropriate scales and in coordination with other ecosystem assessments, to inform decisions about road construction, reconstruction, maintenance, and decommissioning. The directives specifically direct forest officers to use an analysis process such as that described in the report Roads Analysis: Informing Decisions About Managing the National Forest Transportation System (USDA Forest Service, 1999, Misc. Rep. FS-643) in order to gain improved information on which to identify road management opportunities and to assess priorities among various transportation facilities.

Developed by a team of Forest Service research scientists, engineers, and resource professionals and field tested on six national forests across the country, the process is designed to help forest officers move methodically through a science-based analysis to identify environmental issues and concerns about road management and also to identify potential solutions and management opportunities. The proposed directives would further require that, before decisions about road construction, reconstruction, and decommissioning are initiated, a science-based road analysis is used. A science-based road analysis will provide an additional avenue for public comment and participation about road management options and will provide land managers with access alternatives. In addition, decisionmakers will have improved information on which to plan and design a feasible Forest Service road system within the constraints of current and anticipated future funding levels.

Summary of Proposed Changes

To implement a long-term road management strategy and implement the proposed rule changes (published elsewhere in this part of today's Federal Register), the Forest Service proposes to revise Forest Service Manual (FSM) Chapter 1920—Land and Resource Management Planning and Title 7700—Forest Transportation System. For those who are not familiar with the Forest Service administrative directive system, a brief description is at 36 CFR 200.4. Issuances contained in the directive system and information about the system are also available on the internet on the directives homepage at http://www.fs.fed.us.

Proposed Amendments to FSM Chapter 1920—Land and Resource Management Planning. This chapter provides definitions and implementing policy for the Forest Service land and resource management planning process. Implementation of the proposed road management strategy will occur chiefly within the forest plan amendment or revision processes. Therefore, direction is needed on how forest planning teams are to integrate consideration of the forest transportation system into the planning process. Specifically, a new paragraph 20 is proposed to be added to section 1922.15 of the Forest Service Manual. This new paragraph would require planners to identify the access requirements and travel management options available to meet resource management objectives for each management area prescription and to identify road management opportunities to be considered.

In addition to addressing how transportation needs should be integrated into forest planning, the proposed policy would also require that management prescriptions protect values associated with unroaded conditions. Proposed paragraph 28 gives examples of those values, such as serving as barriers to invasive species and providing biological diversity. This proposed direction would fill an important gap in current planning guidelines. To help implement this paragraph, the proposed revision to Section 1920.5 defines “roadless areas” and “unroaded areas,” and the revision to Section 1922.15 provides direction for protection of unroaded area values under the current forest planning process. On October 5, 1999, the agency published proposed new rules for forest planning (64 FR 54073). Upon adoption of a final planning rule, the direction on consideration of unroad values would be integrated with revised agency directives implementing the new planning rule. The proposed definitions here are essentially the same as those included in the proposed planning rule at proposed § 219.36.

Proposed Amendments to FSM Title 7700—Chapter Zero Code. This chapter establishes the overarching authorities, objectives, policy, responsibilities, and definitions for planning, improving, operating, and maintaining the forest transportation system. Throughout this chapter, references to “development” would be removed to reflect a shift in policy from “road development” to “managing access within the capability of the land.” A brief description of other revisions proposed in this chapter follows.

Section 7702. This section is for identifying the broad objectives of transportation system management—that is the general outcomes the agency wishes to achieve. The proposed revision would refine the management objectives to emphasize environmental protection and to recognize ecosystem values in forest transportation system management.

Section 7703. This section sets out the broad policies that govern transportation planning, design and administration. The proposed revision to this section would establish a policy of providing the minimum forest transportation system that best serves the current and anticipated land management objectives and public uses considering current and likely future funding levels. By “minimum system,” the agency does not mean there will not be new roads or other new transportation facilities. Rather, this terminology reflects the agency's conclusion that, particularly with respect to roads, there is little justification for continuing to plan transportation facilities and systems at the high levels of the past 40 years. The agency considers the forest road system to be essentially complete because of previous levels of road construction. Moreover, the agency lacks sufficient funding to maintain all of the system now. Also, land managers recognize that the economic benefits normally associated with roads now rarely balance or outweigh the adverse environmental impacts associated with road construction or reconstruction. Thus, prudent management now requires that the Forest Service focus on evaluating the road system already in place in light of likely future funding, resource management prescriptions, and environmental effects.

This proposed section would include a new policy requiring a rigorous environmental analysis to carefully consider proposals for adding and constructing new roads and to help identify priorities for decommissioning unneeded roads and reconstructing and maintaining needed roads.

Section 7705. The proposed changes to this section would add new definitions and update and revise existing definitions to remove the emphasis on “development” and to clarify intent. Definitions of “roads,” “classified roads,” and “unclassified roads,” as proposed at 36 CFR 212.1 would be repeated for user convenience. In addition, the definition of “public road” from 23 U.S.C. 101(a) would be added, as well as a definition of “decommissioning.” A cross reference to FSM 1920.5 for the definition of “unroaded areas” also would be provided.

In the last year, the Forest Service has adopted new common terms and definitions for maintenance and construction based on standards developed by the Federal Accounting Standards Advisory Board. These generic terms are now being applied in inventorying, budgeting, and accounting for all fixed assets under Forest Service jurisdiction, including the national forest transportation system. The terms and definitions used in FSM 7705, though slightly different, are not inconsistent with the new common financial management terms and their definitions. The agency is assessing its transportation directives to determine what changes in the Forest Service Manual and Handbook terminology are needed. However, this effort exceeds the scope of this proposed revision to road management directives. Persons interested in viewing the new maintenance and construction terms may obtain them on line at www.fs.fed.us/news/roads or by writing or calling the names or units listed earlier in this notice under ADDRESSES and FOR FURTHER INTEREST CONTACT.

In addition to the changes in broad policy in FSM 7700—Zero Code, changes are proposed to Chapter 7710, the name of which would be revised from “Transportation Planning” to “Transportation Atlas, Records, and Analysis.”

Section 7710.2. This section articulates the management results to be achieved through transportation analysis. Proposed paragraphs 1 and 4 are new. Consistent with the shift from development to managing the road system within the capability of the land, paragraph 1 would call for forest officers to establish the minimum forest transportation system that will best provide for management access and public uses as identified in forest plans. Paragraph 4 would add consultation with State, local, and tribal governments, as well as public involvement.

Section 7710.3. This section establishes the overall requirements for transportation system planning, analysis, and decision documentation. Proposed section 7710.31 sets out the general direction for transportation analysis, which would apply to transportation analysis conducted as part of the forest plan amendment and revision process as well as to proposed site-specific projects. First, the analysis should be rigorous and focused on the need for access and the transportation infrastructure required to provide that access. This section would also include the requirement to use the best available science in considering effects of transportation facility construction, reconstruction, maintenance, and decommissioning. This proposed section would also direct forest officers to integrate road analysis with other ecosystem assessments and analyses and to incorporate findings of such analyses into forest plan amendments or revisions or site-specific projects. This section would also require forest officers to ensure that any roads to be added to the transportation system, or new road construction, serve a documented need and are supported by a road analysis.

Proposed section 7710.32 provides more specific direction to guide road analysis. Proposed paragraph 1 (Long-term Application) makes clear that the Forest Supervisor does not have to stop all road management until a road analysis is done, but, rather, recognizes that road analyses will be conducted in the course of business as the need arises. The proposed paragraph cites the report Roads Analysis: Informing Decisions About Managing the National Forest Transportation System (USDA Forest Service, 1999, Misc. Rep. FS-643) as a good example of a science-based road analysis procedure. The Road Analysis Process was refined as a result of pilot testing on six National Forests (M-) located across the county—the Boise NF (Idaho), the Black Hills NF (South Dakota), the Mark Twain NF (Missouri), the Tongass NF (Alaska), the Ocala NF (Florida), and the Willamette NF (Oregon). The new science-based road analysis identifies and addresses a set of possible issues and applicable analysis questions that, when answered, produce information for line officer consideration about possible road construction, reconstruction, and decommissioning needs and opportunities. The road analysis examines issues at various scales, is flexible, and is driven by road issues important to the public, to state, local and tribal governments, and to managers. The directive does not adopt this report as a compulsory analytical tool, but it does establish the report as the standard for comparison when requesting Deputy Chief for National Forest System approval of an alternate science-based analysis process.

Proposed paragraph 2.a. addresses how the agency should handle road construction in sensitive roadless and unroaded areas until forest plan revision is completed. This transitional direction is necessary because the interim suspension on road construction in roadless areas (64 FR 7289; February 12, 1999), expires in September 2000, and it will be several years before all forest plan revisions are completed and sometime before the agency's final roadless rule is adopted. Without some transitional procedures, the special values associated with roadless areas could be subject to an incremental, project-by-project risk of degradation.

The proposed policy would ensure that these roadless areas are given careful consideration through the forest planning process by requiring the following:

1. First, proposals for new road construction or reconstruction in defined roadless and unroaded areas would have to meet a compelling need. Examples of compelling needs include public safety, critical resource restoration, and access required by statute, treaty, or pursuant to reserved or outstanding rights. As indicated by the examples given, the agency envisions “compelling need” to primarily include restorative actions. However, the Tongass National Forest may constitute a special situation. Consistent with the April 1999 Record of Decision for the Tongass National Forest Land and Resource Management Plan, the Regional Forester has authority to determine that a compelling need exists in seeking to meet market demand for timber, to the extent consistent with providing for the multiple use and sustained yield of all renewable forest resources, pursuant to the Tongass Timber Reform Act (1990) and all other applicable laws.

2. Second, the proposal would require an Environmental Impact Statement to authorize road construction or reconstruction in the defined roadless and unroaded areas.

3. The Regional Forester, rather than the Forest Supervisor, would be the responsible official, for any road construction proposal in roadless and unroaded areas.

The proposed policy would find environmental mitigation and restoration in roadless and unroaded areas to be appropriate but makes clear that maintenance of unclassified roads in roadless and unroaded areas would be inappropriate, because such activity would lead to defacto road development.

The proposed paragraph also describes the roadless and unroaded areas to which the protections of the transition period would apply. These are the same areas as identified in the interim rule suspending road construction in roadless areas which took effect March 1, 1999.

Proposed paragraph 2.b. exempts projects in roaded areas which are currently underway or listed in the schedule of proposed actions published pursuant to 36 CFR part 215. This exemption is necessary to avoid costly disruption of projects underway or planned at the time the policy is adopted. However, the proposal does not exempt forests that have recently revised forest plans from the transitional procedures, because the science-based road analysis process has not been incorporated into the revision processes on those forests. Also, it should be noted that it is not unusual for forests to prepare EIS's on proposed road construction in unroaded areas. Therefore, for many forests, these transitional requirements do not represent a significant changes from present practice.

Proposed section 7710.32, paragraph 3, sets out the duration of the transitional procedures that apply to roadless areas. For forests that have not yet revised their forest plans, the transitional procedures would remain in effect until forest plans are revised. For forests that have revised their forest plans since January 1, 1996, the transitional procedures could be lifted on roadless areas once the roads analysis process is applied to units of the forest and the Regional Forester makes a written determination concluding that there is no need to revise or amend the forest plan as a result of the analysis or an amendment or revision adopts the findings into the forest plan.

Section 7711. Consistent with the proposed rule, this section proposes to rename the transportation “plan” as the transportation “atlas” and requires that each forest transportation system facility be identified and described in the transportation atlas. Specific instructions are given for the road atlas portion of the transportation atlas.

Section 7712. This section discusses the scope and levels of transportation analysis and further describes the analysis processes, including reference to the report, Roads Analysis: Informing Decisions About Managing the National Forest Transportation System (USDA Forest Service, 1999, Misc. Rep. FS-643). This section also requires documentation of road management objectives.

Regulatory Impact

These proposed administrative policy revisions have been reviewed under USDA procedures and Executive Order (E.O.) 12866 on Regulatory Planning and Review. The Office of Management and Budget (OMB) has determined that they, in concert with a proposed rule published separately in today's Federal Register, are a significant action as defined by E.O. 12866 because of the importance of the Forest Service road system and the strong public interest expressed. Accordingly, OMB has reviewed these proposed directive revisions. A cost-benefit analysis has been prepared as part of the environmental assessment on this proposal. A summary of the cost-benefit analysis follows.

The basic approach is to issue new regulations consistent with emerging road management policy which encourages investing limited road management funds in a transportation system that best serves the current and anticipated management objectives and public uses of National Forest System lands. This new policy emphasizes investing in the process of decommissioning unneeded roads and reconstructing and maintaining the most heavily used roads. New road construction must be supported by rigorous analysis. Agency road management costs are not expected to change. Although this rule requires that the Agency use a new science-based roads analysis when making decisions about road construction, the Agency currently conducts some transportation analysis in the context of NEPA requirements or other forest planning assessments. Thus the Agency does not expect a significant increase of administrative costs due to new administrative requirements under this proposal. Most of the economic effects have not been quantified. They have been discussed and evaluated on a qualitative basis. Timber harvesting is an exception where quantitative data was reasonably available. A summary of the economic effects of the proposed change in the road management strategy are as follows:

Roaded Areas: The differences between the no action alternative and the proposed action alternative tend to be minor. No significant difference in economic benefits or costs is expected for ease of access, public safety, law enforcement, timber management, and wilderness or heritage resources. Potential positive economic effects are expected for fire management, insect and disease management, noxious weed control, water and air quality, wildlife and fish values, and passive use values. These positive effects result from road decommissioning. Different types of recreation use are affected in different ways—some positive and some negative.

Roadless Areas (inventoried roadless and other unroaded areas): The differences between the no-action alternative and the proposed action alternative would be greatest during the transition phase. No differences are expected for access, public safety, and law enforcement. The only negative affects expected during the transition period would be from reduced timber harvest and mineral exploration and extraction. If all road construction were delayed during the transition in all of the roadless areas, the maximum potential total reduction in timber harvest would be 351 million board feet of timber per year. The maximum cost associated with this reduced timber harvest would be $42 million annually. Also lost, as a result of decreased timber production, would be approximately 3,700 jobs and $10 million in payments-to-states each year. This loss in payments-to-states will be partially offset by Payments in Lieu of Taxes. Positive effects are expected for fire prevention, insect and disease management, noxious weeds, watershed and air quality, wildlife and fish, wilderness, and passive use values. These positive effects result from lack of new road development. The effects on recreation and heritage resources are complex and ambiguous and depend upon the type of activity—some are positive and some are negative. Less access reduces the level of participation. However, the quality of wilderness type recreation use is protected and vandalism of heritage sites is lessened.

In summary, the proposed regulations will permit a reallocation of funds to management activities that are consistent with present resource management direction. While the agency could not quantify or monetize many of the impacts of this proposed rule, the agency thoroughly considered both the potential quantified and qualitatively-discussed costs and benefits. Pursuant to the requirements of Executive Order 12866, the agency carefully assessed alternative regulatory approaches and is proposing this rule only upon making a reasoned determination that the benefits justify the costs.

The complete cost-benefit analysis is contained in the Environmental Assessment. See the “Environmental Impact” section which follows for availability. These proposed revisions of administrative directives have been considered in light of the Regulatory Flexibility Act (5 U.S.C. 601 et seq.). These proposed revisions provide service-wide direction to forest and regional personnel about planning and managing the Forest transportation system. No direct or indirect financial or access impact on small businesses has been identified. Therefore, it is hereby certified that this action will not have a significant economic impact on a substantial number of small entities as defined by that Act.

Unfunded Mandates Reform

Pursuant to Title II of the Unfunded Mandates Reform Act of 1995 (2 U.S.C. 1531-1538), the Department has assessed the effects of these proposed administrative policy revisions on State, local, and tribal governments, and on the private sector. These proposed administrative policy revisions do not compel the expenditure of $100 million or more by any State, local, or tribal government, or anyone in the private sector. Therefore, a statement under section 202 of the Act is not required.

Environmental Impact

Section 31.1(b) of Forest Service Handbook 1909.15 (57 FR 43180, September 18, 1992) excludes from documentation in an environmental assessment or impact statement “rules, regulations, or policies to establish service-wide administrative procedures, program processes, or instructions.” The Forest Service's assessment is that these proposed administrative policy revisions fall within this category of exclusion. Nevertheless, to further the intent of the National Environmental Policy Act, the agency has elected to prepare an environmental analysis. This document may be obtained from the internet at www.fs.fed.us/news/roads/ea2.htm or by writing to the Director of Ecosystem Management Coordination, P.O. Box 96090, Washington, DC 20090. Comments on the environmental assessment should be submitted with any comments on the proposed rule.

No Takings Implications

These proposed administrative policy revisions were reviewed for their impact on private property rights under Executive Order 12630. It has been determined that they do not pose a risk of taking of Constitutionally-protected private property because the proposed administrative policy revisions honor access to private property pursuant to statute or to outstanding or reserved rights.

Civil Justice Reform Act

These proposed administrative policy revisions were reviewed under Executive Order 12988, Civil Justice Reform. They would (1) Preempt all State and local laws and regulations that are in conflict or which would impede its full implementation; (2) Do not retroactively affect existing permits, contracts, or other instruments authorizing the occupancy and use of the National Forest System lands; and (3) Do not require administrative proceedings before parties may file suit in court challenging these provisions.

Controlling Paperwork Burdens on the Public

These proposed administrative policy revisions do not contain any recordkeeping or reporting requirements or other information collection requirements as defined in 5 CFR part 1320 and, therefore, impose no paperwork burden on the public. Accordingly, the review provisions of the Paperwork Reduction Act of 1995 (44 USC 3501, et seq.) and implementing regulations at 5 CFR Part 1320 do not apply.

Comments Invited

Public comment is invited. The proposed administrative policy and procedures would revise existing administrative policy and procedures in FSM 1920 and FSM 7700. Manual texts containing the proposed administrative policy revisions are at the end of this notice. The Forest Service invites written comments and will analyze and consider those comments in development of the final notice of administrative policy that will be published in the Federal Register. Additionally, Forest Supervisors may hold meetings to provide an opportunity for local comment and clarification of these proposed directives.

Dated: February 25, 2000.
Mike Dombeck,
Chief.

Proposed Forest Service Manual Revision

(Note: The Forest Service organizes its directive system by alphanumeric codes and subject headings. Only those sections of the FSM that are the subject of this notice are set out here. Those who wish to see the entire documents into which the proposed changes would be incorporated may do so via the internet at http://fsweb.wo.fs.fed.us/directives/index.html. Forest Service employees charged with decisionmaking responsibilities concerning the National Forest transportation system are the intended audience of these proposed administrative policy revisions.)

Chapter 1920—Land and Resource Management Planning

1920.5—Definitions. (Note: These proposed definitions are essentially the same as those included in the proposed forest planning rule (64 FR 54073) at proposed § 219.36.)

Inventoried Roadless areas. For purposes of forest planning, undeveloped areas typically exceeding 5,000 acres that met the minimum criteria for wilderness consideration under the Wilderness Act and that were inventoried during the Forest Service's Roadless Area Review and Evaluation (RARE II) process, or subsequent forest planning. Criteria for inventorying roadless areas in the eastern United States are in Forest Service Handbook 1909.12, Chapter 7. An area is either a roadless area or an unroaded area, but not both.

Unroaded areas. Any area without the presence of a classified road (proposed 36 CFR 212.1). The size of the area must be sufficient and in a manageable configuration to protect the inherent values associated with the unroaded condition. Unroaded areas do not overlap with designated roadless areas.

1922.15—Resource Integration Requirements. Requirements for integrating individual forest resources, including wilderness and other special areas, into the forest planning process are in 36 CFR 219.14 through 219.27. Refer to the Forest Service Handbook 1909.12 for details on how to incorporate resources into the planning process. In addition, the forest planning process must:

* * * * *

20. Identify the specific access requirements and travel management options available to meet the objectives for each management prescription. Describe how access will be provided and how travel will be managed. Include the Forest Service road system, off-road travel, and air and water access. Integrate considerations of biological, physical, social, and economic factors and environmental design criteria. Link access and travel requirements and opportunities to the full spectrum of resource objectives for each management area and alternative.

* * * * *

28. Ensure that management prescriptions protect values associated with unroaded conditions such as unique or important habitat for wildlife, fish and plant species, sources of drinking water, cultural or historic areas, sources of dispersed recreation, barriers to invasive species, high or unique biological diversity, or research.

FSM 7700—Forest Transportation System Chapter—Zero Code

This title prescribes the authority, objectives, policy, responsibility, and definitions for planning, reconstruction, improvement, operation, and maintenance of forest transportation system facilities.

7701—Authority.

7701.1—Coordination with Forest Planning.

1. Title 36, Code of Federal Regulations, section 219.27 (36 CFR 219.27). These rules require transportation access to be addressed in the land management planning process.

7701.2—Revegetation.

1. Forest and Rangeland Renewable Resources Planning Act of 1974 (16 U.S.C. 1601, Pub. L. 93-378) as amended by the National Forest Management Act of 1976 (16 U.S.C. 1608, Pub. L. 94-588). Directs that roads be designed to standards appropriate for intended uses and prescribes the revegetation of unnecessary roads.

7701.3—Transportation System Management.

1. National Forest Roads and Trails Act of October 13, 1964 as amended (16 U.S.C. 532-538, Pub. L. 88-657). Authorizes road and trail systems for the National Forests. Authorizes the granting of easements across Forest Service administered lands, the construction of maximum economy roads (FSM 7705) and methods for financing them, and the imposing of requirements on road users for maintaining and reconstructing roads, including cooperative deposits for such work.

2. Highway Safety Act of 1966 (23 U.S.C. 402, Pub. L. 89-564). Directs States and participating Agencies to identify and survey accident locations; to design, construct, and maintain roads in accordance with safety standards; to apply sound traffic control principles and standards; and to promote pedestrian safety.

3. National Trails System Act of October 2, 1968 (16 U.S.C. 1241-1249, Pub. L. 90-543). Establishes the National Trail System, including planning, right-of-way acquisition, and construction of trails designated by Congress or the Secretary of Agriculture.

4. Title 36, Code of Federal Regulations, Part 212 (36 CFR Part 212). These rules establish requirements for the administration of the forest transportation system, including roads, trails and airfields, and provisions for acquisition of rights-of-way.

5. Title 36, Code of Federal Regulations, sections 261.12 and 261.54 (36 CFR 261.12 and 261.54). These rules establish prohibitions on Forest Service roads that are enforceable by the Forest Service.

* * * * *

7702—Objectives. The results to be achieved by developing and managing the forest transportation system are as follows:

1. To provide sustainable access to National Forest System lands for administration, protection, and utilization of these lands and resources.

2. To manage a forest transportation system within the capabilities of the land.

3. To manage forest transportation system facilities to provide user safety, convenience, and efficiency of operations while minimizing adverse environmental impacts and, where appropriate, restoring ecosystems within the limits of current and likely funding levels.

4. To coordinate access to National Forest System lands with National, state-wide and local transportation needs.

7703—Policy. Determine and provide the minimum forest transportation system to best serve the current and anticipated management objectives and public uses of National Forests lands as identified in the relevant land and resource management plans (FSM 1920). In providing access, forest officers should minimize investment and maintenance costs and should not compromise land health or water quality.

7703.1—Road Management. In managing the Forest Service road system, assess the access benefits and the costs of road-associated ecological effects. Give priority to decommissioning unneeded roads and to reconstructing and maintaining needed roads. Add new roads to the transportation system only where supported by rigorous analysis (FSM 7712). Management opportunities for meeting access needs may include roads managed for safe passenger car use, utilization of forest resources, roads managed for high-clearance highway vehicles, roads closed to highway vehicles but available for other uses (such as hiking and administrative access), or trails managed for a variety of uses (such as hiking, horseback riding, and snowmobiling).

1. Maintaining and reconstructing needed roads. Emphasize maintenance and reconstruction of roads needed to meet road management objectives (FSM 7712.3). Give priority to upgrading the most heavily used roads to provide safe and efficient travel and to reduce, to the extent practicable, adverse environmental impacts.

2. Decommissioning unneeded roads. Many unplanned, unauthorized, unclassified travelways exist within the National Forests and Grasslands. Also, some roads have been classified as part of the forest transportation system based on previously anticipated management needs that may have changed over time. Establish priorities, schedule decommissioning and terminate motor vehicle use of roads no longer needed. Reestablish vegetation (FSM 7701.2) and restore ecological processes interrupted or impacted by the unneeded roads. Decommissioning includes various levels of treatments to stabilize and rehabilitate unneeded roads, such as blocking the entrance, revegetating and water barring; removing fills and culverts, reestablishing drainage-ways and removing unstable road shoulders; or full obliteration by recontouring and restoring natural slopes.

3. Adding new roads. Carefully consider proposals to build new roads or to add roads to the Forest Service road inventory that is included in the atlas. Add new roads only where long-term funding obligations have been carefully considered, and, where the resource management objectives and benefits have been documented, such as for natural resource management, including utilization, protection, public health and safety, or private rights. Make road construction and reconstruction decisions locally, with public involvement and based on thorough analysis considering the latest scientific information on the adverse effects of roads on ecosystems.

* * * * *

7705—Definitions. Exhibit 1, Road Terminology Relationships, illustrates the relationships among various road terms.

* * * * *

Forest Roads. As defined in Title 23, Section 101 of the United States Code (23 U.S.C. 101), a road wholly or partly within, or adjacent to, and serving the National Forest System and which is necessary for the protection, administration, and utilization of the National Forest System and the use and development of its resources.

Forest Service Road. A forest road under the jurisdiction of the Forest Service. The term “Forest Service roads” is synonymous with the term “forest development roads” as used in 23 U.S.C. 205.

Forest Service Trail. (see FSM 2350.5).

Forest Transportation System. Those facilities, including Forest Service roads, bridges, culverts, trails, parking lots, log transfer facilities, road safety and other appurtenances, and airfields, in the transportation network and under Forest Service jurisdiction.

Forest Transportation System Management. The planning, inventory, analysis, classification, records, scheduling, construction, reconstruction, improvement, maintenance, decommissioning, and other operations to achieve environmentally sound, safe, cost effective, and integrated access for use, protection, and management of National Forest System lands.

* * * * *

Road. A motor vehicle travelway over 50 inches wide, unless classified and managed as a trail. A road may be classified or unclassified (36 CFR 212.1).

a. Classified Roads. Roads within National Forest System lands planned or managed for motor vehicle access including state roads, county roads, private roads, permitted roads, and Forest Service roads (36 CFR 212.1).

b. Unclassified Roads. Roads not intended to be part of, and not managed as part of, the forest transportation system, such as temporary roads, and unplanned roads, off-road vehicle tracks, and abandoned travelways.

c. Public Roads. Any road or street under the jurisdiction of and maintained by a public authority and open to public travel (23 U.S.C. 101(a)).

Road Investment Terms. The following terms have specific meanings as used in the Forest Service:

a. New Road Construction. * * *

b. Road Reconstruction. The investment in construction activity that results in improvement, restoration, or realignment of a road as defined below:

(1) Realignment. Investment in construction activity that results in the new location of an existing road or portions thereof. The investment may include decommissioning the abandoned sections of roadway.

(2) Improvement. Investment in construction activity that raises the traffic service level of a road or improves its safety or operating efficiency.

(3) Rebuilding. Investment in construction activity required to restore a road to its approved traffic service level.

c. Road Maintenance. Expenditures in the ongoing minor restoration and upkeep of a road necessary to retain the road's approved traffic service level.

Roads Subject to the Highway Safety Act. Forest Service roads that are open to use by the public for standard passenger cars. This includes roads with access restricted on a seasonal basis, and roads closed during extreme weather conditions or for emergencies, but which are otherwise open for general public use.

Temporary Facilities. Transportation facilities authorized by contract, permit, lease or emergency operation, not intended to be a part of the forest transportation system and not necessary for long-term resource management.

* * * * *

Transportation Facility Decommissioning. Various treatments leading to stabilization and restoration of transportation facilities that are no longer needed.

Transportation Facility Jurisdiction. The legal right to control or regulate use of a transportation facility. Jurisdiction requires authority, but not necessarily ownership. The authority to construct or maintain a road may be derived from fee title, an easement, an agreement, or some other similar method.

* * * * *

7709—Handbooks.

* * * * *

7709.56—Road Preconstruction Handbook. This Handbook establishes procedures and guides for the location, survey, design, and preparation of cost estimates for Forest Service roads.

BILLING CODE 3410-11-U

BILLING CODE 3410-11-C

Chapter 7710—Transportation Atlas, Records, and Analysis

This chapter contains objectives, policies, responsibilities, and requirements for analyzing transportation needs and issues and documenting the transportation system. Direction for forest trails is in FSM 2350 and FSH 2309.18, Trails Management Handbook.

7710.2—Objectives. The objectives of transportation analysis are:

1. To determine the minimum transportation facilities needed to achieve agency and forest land and resource management goals and safeguard ecosystem health within the context of current and likely funding levels.

2. To incorporate the transportation system needs and direction into the forest land and resource management planning process.

3. To direct the orderly improvement and management of the transportation system and to ensure the documentation of decisions affecting the system.

4. To interact with and involve the public, and State, local, and tribal governments in transportation analysis.

7710.3—Policy.

7710.31—General Transportation Analysis Requirements. Conduct transportation analysis based on rigorous analysis of the need for access to National Forest System lands and of the infrastructure required to provide that access. Use the best available science at appropriate scales to consider effects of transportation facility construction, reconstruction, maintenance, and decommissioning on ecosystems.

Integrate transportation analysis into other ecosystem assessments and analyses as appropriate. Ensure that environmental analysis identifies and displays at least one alternative that is based on current budget levels and realistic projections of future funding. Incorporate the findings of such analyses into forest plan amendments or revision or site-specific project planning, as applicable.

Ensure that road reconstruction, improvement, operation, and maintenance are guided by road management objectives (FSM 7712.3) and are undertaken within the constraints of current and likely future funding levels.

7710.32—Road Analysis.

1. Long-term Application. In the course of business, the responsible official shall incorporate a science-based road analysis into multi-forest, forest-wide and watershed-scale analyses and assessments to inform planners and decisionmakers of transportation system opportunities that support land and resource management objectives. Unless an alternative process is approved by the Deputy Chief, National Forest System, units are to use the science-based road analysis process described in the report, Roads Analysis: Informing Decisions About Managing the National Forest Transportation System (USDA Forest Service, 1999, Misc. Rep. FS-643).

a. New road construction. Consistent with the direction at section 7703.1, ensure that the addition of new roads, including new road construction, serves a documented need and that the decision is informed by a science-based road analysis.

b. Maintenance, reconstruction, and decommissioning. Use the science-based analysis process described in paragraph 1 of this section to evaluate opportunities and priorities for maintenance, reconstruction, and decommissioning of roads. Conduct the analysis at a scale and intensity commensurate with the scope of the action. However, implementation of a routine or emergency maintenance activity does not require a road analysis before proceeding.

2. Transition. Until a comprehensive road inventory and road analysis have been conducted and integrated into the applicable Forest Plan, the following direction shall apply:

a. Road construction/reconstruction in roadless and unroaded areas.

There must be a compelling need to propose construction/reconstruction of roads in the following roadless and unroaded areas:

(1) Unroaded portions of the RARE II (Roadless Area Review and Evaluation conducted by the Forest Service in 1979) inventoried roadless areas within the National Forest System.

(2) Unroaded portions of roadless areas identified in existing land and resource management plans that lie one-quarter mile or more beyond any existing classified road, and

(3) Unroaded areas of more than 1,000 acres that are contiguous to remaining unroaded portions of RARE II inventoried roadless areas or contiguous to areas inventoried in land and resource management plans, contiguous to congressionally designated wilderness areas or Federally-administered components of National Wild and Scenic River System classified as Wild, or contiguous to unroaded areas of 5,000 acres or more on other Federal lands. These areas of 1,000 acres or more must have a common boundary of considerable length, at least one-quarter mile width, and provide important corridors for wildlife movement or extend a unique ecological value of the established inventoried area.

Compelling needs include, but are not limited to, critical resource restoration and protection; public safety; and access to carry out a statute or treaty or pursuant to reserved or outstanding rights.

Road construction in roadless and unroaded areas and generally reconstruction in those areas will constitute a significant environmental effect as defined in the Council on Environmental Quality regulations (40 CFR part 1508) and the Forest Service Environmental Procedures Handbook (FSH 1909.15, section 05) and will require the preparation of an environmental impact statement (FSH 1909.15, section 20.6). This National Environmental Policy Act analysis will provide the basis for a Regional Forester decision.

Environmental mitigation and environmental restoration necessitated by unclassified roads are appropriate in roadless and unroaded areas and must follow normal National Environmental Policy Act decisionmaking processes. However, maintenance of unclassified roads in roadless and unroaded areas is inappropriate as such activity would lead to defacto road development.

b. Road construction/reconstruction in roaded areas. A road analysis should be completed as appropriate for any road construction or reconstruction project proposal in roaded areas. However, any road construction or reconstruction underway or listed in the schedule of proposed actions published pursuant to 36 CFR Part 215 prior to the effective date of this amendment does not require a road analysis.

3. Duration of Transition Procedures. For those forests that have not adopted a revised forest plan prior to the effective date of this amendment, the transitional procedures in FSM 7710.32, paragraph 2, remain in effect until the roads analysis process has been integrated into the forest plan revision process.

For those forests that have revised their forest plans after January 1, 1996, the transitional procedures in section 7710.32, paragraph 2, remain in effect until the road analysis process is implemented and either (1) The Regional Forester makes a written determination that the forest plan does not require amendment or revision to reflect the findings of the analysis or (2) Until the Forest Supervisor undertakes and adopts a forest plan amendment or revision to integrate the results into the forest plan.

7710.4—Responsibility.

7710.41—Deputy Chief, National Forest System. It is the responsibility of the Deputy Chief to approve an alternative road analysis process.

7710.42—Regional Forester. It is the responsibility of the Regional Forester to:

1. Ensure that science-based road analysis is a component of sub-basin, multi-Forest and sub-regional scale assessments.

2. Ensure that science-based road analysis is incorporated in forest plan revisions.

3. Serve as responsible official on any environmental impact statement on road construction or reconstruction in roadless and unroaded areas prepared under FSM 7710.32, paragraph 2.

* * * * *

7710.43—Forest Supervisor. It is the responsibility of the Forest Supervisor to:

1. Accomplish road analysis at the appropriate scales in conjunction with other assessments, and integrate transportation management issues and opportunities with land and resource management planning.

2. Develop and maintain a forest transportation atlas in compliance with FSM 7711.

3. Ensure that engineering, hydrology, biology, and other appropriate skills needed in transportation analysis, are available.

4. Ensure that project development and operation are consistent with the road management objectives documented in the forest transportation atlas.

5. Identify and prioritize areas (FSM 1922.52) where detailed transportation analysis is essential for achieving land and resource management direction and resource project implementation schedules.

6. Recommend to the Regional Forester annual and multi-year schedules of proposed transportation decommissioning, reconstruction, and construction projects (FSM 1922.51).

7. Involve Federal, State, local, and tribal transportation agencies in land and resource management planning to ensure coordination.

8. Document inventory and transportation analysis results.

7710.44—District Rangers. It is the responsibility of the District Ranger to approve road management objectives.

* * * * *

7710.5—Definitions.

Unroaded areas. (see FSM 1920.5).

7711—Forest Transportation Atlas & Records. Prepare and keep current a forest transportation atlas for National Forest System lands as defined at section 212.1 of Title 36 of the Code of Federal Regulations (36 CFR 212.1). The atlas consists of the geospatial and tabular data showing the location of each transportation facility and additional information as necessary for Forest Service management of roads, trails, and airfields.

7711.1—Road Atlas. A critical component of the transportation atlas is the forest road atlas, which includes classified and unclassified roads on National Forest System lands. The forest road atlas serves as the official record of the Forest Development Road system referred to in the National Forest Management Act (16 U.S.C. 1608 (b)). The road atlas includes, at a minimum, the location and jurisdiction of classified roads not under Forest Service jurisdiction, the location and road management objectives for Forest Service roads and bridges, and the location of and management decisions on unclassified roads. To the extent practicable and appropriate, cite in the atlas the science-based analyses used to support decisions on roads recorded in the atlas.

Use INFRA Service-wide, the Forest Service integrated infrastructure tabular and spatial data management system, for the storage and analysis of information in the road atlas. The transportation inventory must be capable of spatial representation or mapping as appropriate at the various analysis and forest planning scales. This information also supports other resource analyses, such as water quality and habitat assessments.

7711.2—Transportation Atlas Maintenance. Maintain a current record of forest transportation facilities in the atlas as part of the ongoing real property and condition survey updates (FSM 6446). Add proposed facilities to the atlas only after a decision to construct the facility or to convert an unclassified road to a classified facility has been made by the responsible official in accordance with the National Environmental Policy Act process, including facilities covered by categorical exclusions (FSM 1952 and FSM 1922.52, No. 4). Remove existing facilities from the atlas only after anticipated decommissioning results have been achieved and verified through monitoring.

7712—Transportation Analysis and Results. Use a science-based transportation analysis process, at appropriate scales, that considers transportation facility needs and concerns. Coordinate the analysis with other ecosystem assessments and analyses.

7712.02—Objectives. Conduct transportation analysis to achieve the following:

1. Identification of opportunities,

2. Assessment of needs, funding, and associated ecosystem effects, including effects on unroaded values,

3. Achievement of management direction, and

4. Documentation of recommendations that can become part of a NEPA disclosure and line decision.

7712.03—Policy. Forest Service regulations implementing the Forest and Rangeland Renewable Resources Planning Act, as amended by the National Forest Management Act, require integration of transportation planning into an interdisciplinary effort that produces Regional guides, forest and site-specific project plans. Use the forest transportation atlas as a record of transportation facility decisions.

1. Assess economic costs and benefits along with physical and biological factors when identifying project alternatives.

2. Consider the needs of all parties when developing transportation system opportunities in areas of intermingled ownership.

3. Consider long- and short-term uses, including possible mechanized, non-mechanized, and off-highway vehicle uses, when analyzing transportation facilities.

4. Involve the public in transportation analysis.

5. Identify all classified and unclassified facilities in the forest transportation atlas.

6. Document road management objectives and project priorities.

7712.1—Scope and Levels of Transportation Analysis. Line officers must choose the appropriate geographic scale for transportation analysis and the degree of detail that is appropriate and practicable. Selecting the appropriate scale for assessing road opportunities depends on the issues being analyzed. Line officers should recognize that starting with the broader scale analysis is particularly helpful in identifying interactions between resources and roads that may only be detected at the broader level, in supporting better informed and integrated decisions across administrative boundaries, and in avoiding collection of unnecessary information.

7712.11—Multi-Forest and Ecoregion Scale Transportation Analysis. Road analysis is an integral part of an ecoregion (or sub-region) assessment. At this level, consider the following:

1. Broad scale issues, such as habitat connectivity, strongholds for aquatic and terrestrial species, sources of drinking water, cumulative effects, and other unroaded values.

2. Integration of State, county, and local transportation systems, and multi-year transportation plans with the Forest transportation system.

3. Potential program direction for new or revised forest highways, public lands highways, and public roads under Forest Service jurisdiction.

4. Current and likely funding levels available to support transportation facility construction, reconstruction, maintenance and decommissioning.

7712.12—Forest Plan Level Transportation Analysis. Transportation analysis at the forest plan level tiers to broader scale analyses and requires close coordination with other ecosystem assessments. Consider:

1. Environmental effects, including socio-economic impacts. Consider costs and benefits of protection of unroaded values.

2. An overview of the transportation rights-of-way acquisition needs.

3. State, county and local transportation facility effects on land and forest resource management plans and resource management programs.

4. Forest Service transportation investments necessary for carrying out the planned resource program.

7712.13—Watershed and Project Level Transportation Analysis. Watershed and project level road analyses tier to broader scale analyses, where available, and include comprehensive inventory and science-based analyses of all classified and unclassified forest transportation facilities within the analysis area. Integrate watershed scale transportation analyses with other watershed scale assessments.

7712.2—Analysis Processes.

7712.21—Transportation Analysis. Perform transportation analysis at the appropriate scales to identify an environmentally sound, cost efficient (FSH 1909.17) transportation network. Tier the analysis to the Forest plan and to available ecosystem assessments. The analysis must follow a process that considers the latest science-based information on environmental benefits and effects, particularly unroaded values, such as described in the report, Roads Analysis: Informing Decisions About Managing the National Forest Transportation System (USDA Forest Service, 1999, Misc. Rep. FS-643). The transportation analysis shall be guided by management direction, have interdisciplinary participation, and be approved in writing by the responsible official.

In timber harvest areas, the analysis should be a joint effort of sale planners, logging engineers, biologists, and transportation planners, as well as representatives of other disciplines. Ensure that timber sale planning is coordinated with analysis of transportation needs (FSM 2431.2).

Document the transportation analysis in conjunction with policies and procedures of FSM 1950 and FSH 1909.15. Revise the forest transportation atlas (FSM 7711.2) if the formal decision necessitates any changes.

7712.22—Network Analysis. Perform a network analysis as part of transportation analysis to determine alternate route effectiveness for the management direction.

The network analysis shall establish four important types of transportation cost data:

1. Environmental effects and possible ecosystem restoration opportunities.

2. Reconstruction and improvement costs on a road system to a specified area.

3. Variable user and travel-related costs over a road system for a resource activity on a unit or output basis.

4. Cost of operating and maintaining the network.

Re-analyze networks and cost estimates as outputs, schedules, and management area locations change for different management practices.

7712.23—Economic Analysis.

* * * * *

7712.3—Road Management Objectives. Establish road management objectives for all Forest Service roads consistent with forest plan direction. Road management objectives include design criteria (FSM 7720) and operation and maintenance criteria (FSM 7730.3). The road management objectives require line officer approval and are included in the transportation atlas.

7712.4—Scheduling Projects. Develop 3-to 5-year schedules listing all proposed projects. Schedule decommissioning, reconstruction and improvement project activities in coordination with other resource and support activities in a timely manner.

* * * * *

[FR Doc. 00-5000 Filed 3-2-00; 8:45 am]

BILLING CODE 3410-11-U